DEPARTMENT OF COMMERCE

National Institute of Standards and Technology

National Artificial Intelligence Advisory Committee

AGENCY: National Institute of Standards and Technology, Department of Commerce.

ACTION: Notice of open briefing session.

SUMMARY: The National Institute of Standards and Technology (NIST) announces that the National Artificial Intelligence Advisory Committee (NAIAC or Committee) will hold a virtual briefing session on Thursday, August 3, 2023. The purpose of the session is for invited experts to brief the Committee on topics of interest related to the Committee's year two efforts. Additional information, including the final agenda and link to register, will be available online at: ai.gov/naiac/.

DATES: The session will be held between the hours of 1:00 and 5:00 p.m. Eastern Time on Thursday, August 3, 2023.

ADDRESSES: The session will be held virtually. Additional information will be available on ai.gov/naiac. Members of the public interested in viewing the session are encouraged to visit ai.gov/naiac/ for session details and to register to watch virtually. Registration is required to view the virtual session and members of the public should register in accordance with the information provided in the SUPPLEMENTARY INFORMATION section of this notice.

FOR FURTHER INFORMATION CONTACT: Alicia Chambers, Committee Liaison Officer, National Institute of Standards and Technology, 100 Bureau Drive, MS 1000, Gaithersburg, MD 20899, alicia.chambers@nist.gov or 301-975-5333, or Rachel Trello, Alternate Designated Federal Officer, National Institute of Standards and Technology, 100 Bureau Drive, MS 1000, Gaithersburg, MD 20899, rachel.trello@nist.gov or 301-975-6338. Please direct any inquiries to naiac@nist.gov.

SUPPLEMENTARY INFORMATION: In accordance with the Federal Advisory Committee Act, 5 U.S.C. 1001 et seq., notice is hereby given that the NAIAC will hold a briefing session between the hours of 1 and 5 p.m. Eastern Time on Thursday, August 3, 2023. The session will be open to the public and will be held virtually. Interested members of the public will be able to attend the session from remote locations. The purpose of the session is for invited experts to brief the Committee on topics of interest related to the Committee's year two efforts. Additional information, including the final agenda and link to register, will be available online at: ai.gov/naiac/.

The NAIAC is authorized by section 5104 of the National Artificial Intelligence Initiative Act of 2020 (Pub. L. 116-283), in accordance with the provisions of the Federal Advisory Committee Act, 5 U.S.C. 1001 et seq. The Committee advises the President and the National Artificial Intelligence Initiative Office on matters related to the National Artificial Intelligence Initiative. Additional information on the NAIAC is available at ai.gov/naiac/.

Comments: Oral comments from the public will not be permitted during the virtual session. However, individuals and representatives of organizations may submit written comments and suggestions to the Committee at any time. Please note that all submitted comments will be treated as public documents and will be made available for public inspection. All comments must be submitted via email with the subject line “YOUR NAME, YOUR ORGANIZATION NAME (if applicable), NAIAC Comments” to naiac@nist.gov.

Virtual Admittance Instructions: The session will be broadcast live via virtual webcast. Registration is required to view the virtual session. To register, please visit ai.gov/naiac/. Members of the public that would like to view the session must register by 1 p.m. Easter Time, on Thursday, August 3, 2023.

Alicia Chambers,
NIST Executive Secretariat.

[FR Doc. 2023-14965 Filed 7-18-23; 8:45 am]

BILLING CODE 3510-13-P